DEPARTMENT OF AGRICULTURE

Animal and Plant Health Inspection Service

9 CFR Part 94

[Docket No. APHIS-2006-0010]

Add Kazakhstan, Romania, Russia, Turkey, and Ukraine to List of Regions in Which Highly Pathogenic Avian Influenza Subtype H5N1 Is Considered To Exist

AGENCY: Animal and Plant Health Inspection Service, USDA.

ACTION: Interim rule and request for comments.

SUMMARY: We are amending the regulations concerning the importation of animals and animal products by adding Kazakhstan, Romania, Russia, Turkey, and Ukraine to the list of regions in which highly pathogenic avian influenza (HPAI) subtype H5N1 is considered to exist. We are taking this action because there have been outbreaks of HPAI subtype H5N1 in those countries. This action is necessary to prevent the introduction of HPAI subtype H5N1 into the United States.

DATES: This interim rule was effective on February 7, 2006. This interim rule was applicable on July 18, 2005, with respect to Russia; on July 22, 2005, with respect to Kazakhstan; on October 1, 2005, with respect to Turkey; on October 4, 2005, with respect to Romania; and on November 25, 2005, with respect to Ukraine. We will consider all comments that we receive on or before April 14, 2006.

ADDRESSES: You may submit comments by either of the following methods:

• Federal eRulemaking Portal: Go to http://www.regulations.gov and, in the “Search for Open Regulations” box, select “Animal and Plant Health Inspection Service” from the agency drop-down menu, then click on “Submit.” In the Docket ID column, select APHIS-2006-0010 to submit or view public comments and to view supporting and related materials available electronically. After the close of the comment period, the docket can be viewed using the “Advanced Search” function in Regulations.gov.

• Postal Mail/Commercial Delivery: Please send four copies of your comment (an original and three copies) to Docket No. APHIS-2006-0010, Regulatory Analysis and Development, PPD, APHIS, Station 3A-03.8, 4700 River Road Unit 118, Riverdale, MD 20737-1238. Please state that your comment refers to Docket No. APHIS-2006-0010.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Julie Garnier, Staff Veterinarian, Technical Trade Issues Team, National Center for Import and Export, VS, APHIS, 4700 River Road Unit 39, Riverdale, MD 20737-1231; (301) 734-5677.

SUPPLEMENTARY INFORMATION:

Background

The Animal and Plant Health Inspection Service (APHIS) of the United States Department of Agriculture (USDA or the Department) regulates the importation of animals and animal products into the United States to guard against the introduction of animal diseases. The regulations in 9 CFR parts 93, 94, and 95 (referred to below as the regulations) govern the importation of certain animals, birds, poultry, meat, other animal products and byproducts, hay, and straw into the United States in order to prevent the introduction of various animal diseases, including avian influenza (AI).

There are many strains of AI virus that can cause varying degrees of clinical illness in poultry such as chickens, turkeys, pheasants, quail, ducks, geese, and guinea fowl, as well as a wide variety of other birds. AI viruses can be classified into low pathogenic (LPAI) and highly pathogenic (HPAI) forms based on the severity of the illness they cause. Most AI virus strains are LPAI and typically cause little or no clinical signs in infected birds. However, some LPAI virus strains are capable of mutating under field conditions into HPAI viruses.

HPAI is an extremely infectious and fatal form of the disease for chickens. HPAI can strike poultry quickly without any infection warning signs and, once established, the disease can spread rapidly from flock to flock. HPAI viruses can also be spread by manure, equipment, vehicles, egg flats, crates, and people whose clothing or shoes have come in contact with the virus. HPAI viruses can remain viable at moderate temperatures for long periods in the environment and can survive indefinitely in frozen material. One gram of contaminated manure can contain enough virus to infect 1 million birds.

In some instances, strains of HPAI viruses can be infectious to people. Human infections with AI viruses under natural conditions have been documented in recent years. Since December 2003, a growing number of countries have reported outbreaks of HPAI, H5N1, Asian strain, responsible for the deaths of millions of birds and at least 79 humans.

The rapid spread of the H5N1, Asian strain of HPAI, with outbreaks occurring at the same time in a number of regions, is historically unprecedented and of growing concern for human and animal health. The current H5N1, Asian strain of HPAI has caused significant concern among health authorities worldwide because of the potential for this virus to mutate into a form that is easily transmitted from human to human.

On July 23, 2005, Russia alerted the World Organization for Animal Health and the United States that an outbreak of HPAI subtype H5N1 had been identified in that country on July 18, 2005. On August 2, 2005, Kazakhstan also reported an outbreak of HPAI subtype H5N1 that began on July 22, 2005. Similar notifications were made by Turkey on October 6, 2005, regarding an October 1, 2005, outbreak; by Romania on October 7, 2005, regarding an October 4, 2005, outbreak; and by Ukraine on December 2, 2005, regarding a November 25, 2005, outbreak.

Therefore, in order to prevent the introduction of HPAI subtype H5N1 into the United States, we are amending the regulations by adding Kazakhstan, Romania, Russia, Turkey, and Ukraine to the list in § 94.6(d) of regions where HPAI subtype H5N1 exists. We are making this action effective retroactively to July 18, 2005, for Russia, which is the date that Russian veterinary authorities estimate to be the date of primary infection. Similarly, we are making this action effective retroactively for Kazakhstan, Turkey, Romania, and Ukraine to July 22, 2005; October 1, 2005; October 4, 2005; and November 25, 2005, respectively. As a result of this action, the importation into the United States of birds, poultry, and unprocessed bird and poultry products from Kazakhstan, Romania, Russia, Turkey, and Ukraine is restricted, and U.S. origin pet birds and performing or theatrical birds and poultry returning to the United States from Kazakhstan, Romania, Russia, Turkey, and Ukraine will be subject to additional permit and quarantine requirements.

Emergency Action

This rulemaking is necessary on an emergency basis to prevent the introduction of HPAI subtype H5N1 into the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

We are amending the regulations concerning the importation of animals and animal products by adding Kazakhstan, Romania, Russia, Turkey, and Ukraine to the list of regions in which HPAI subtype H5N1 is considered to exist. We are taking this action because there have been outbreaks of HPAI subtype H5N1 in those countries. This action is necessary to prevent the introduction of HPAI subtype H5N1 into the United States.

Poultry production in Kazakhstan, Romania, Russia, Turkey, and Ukraine represents a small portion of world production. Imports of poultry and poultry products from these five countries into the United States are not large. In fact, from 2004 to 2005, of the five, Russia and Ukraine were the only countries exporting poultry and poultry products to the United States (table 1). In 2004, the United States imported a total of over $2.3 million worth of live birds and over $204 million worth of down feathers from all countries. Imports of poultry and poultry products from Russia and Ukraine comprised less than 1 percent of all imports to the United States annually.

Table 1.—Value of U.S. Imports of Live Birds and Poultry Products From Russia and Ukraine
Product | 2004 | 2005 (January-October)
Live birds | $158,000 | $28,000
Feathers and down for stuffing, clean | 786,235 | 991,549
Source: World Trade Atlas.

Adding Kazakhstan, Romania, Russia, Turkey, and Ukraine to the list of regions in which HPAI subtype H5N1 is considered to exist is not likely to have a measurable economic impact on the agricultural economy as a whole or on small entities.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are in conflict with this rule; (2) has retroactive effect to July 18, 2005, with respect to Russia; to July 22, 2005, with respect to Kazakhstan; to October 1, 2005, with respect to Turkey; to October 4, 2005, with respect to Romania; and to November 25, 2005, with respect to Ukraine; and (3) does not require administrative proceedings before parties may file suit in court challenging this rule.

Paperwork Reduction Act

This rule contains no new information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, and 371.4.

2. In § 94.6, paragraph (d) is revised to read as follows:

§ 94.6 Carcasses, parts or products of carcasses, and eggs (other than hatching eggs) of poultry, game birds, or other birds; importations from regions where exotic Newcastle disease or highly pathogenic avian influenza subtype H5N1 is considered to exist.

* * * * *

(d) Highly pathogenic avian influenza (HPAI) subtype H5N1 is considered to exist in the following regions: Cambodia, China, Indonesia, Japan, Kazakhstan, Laos, Malaysia, Romania, Russia, South Korea, Thailand, Turkey, Ukraine, and Vietnam.

* * * * *

Done in Washington, DC, this 7th day of February 2006.
Kevin Shea,
Acting Administrator, Animal and Plant Health Inspection Service.

[FR Doc. 06-1303 Filed 2-10-06; 8:45 am]

BILLING CODE 3410-34-P